DEPARTMENT OF COMMERCE

National Oceanic and Atmospheric Administration

50 CFR Part 660

[Docket No. 051014263-6028-03; I.D. 110706A]

Fisheries off West Coast States; Pacific Coast Groundfish Pacific Coast Groundfish Fishery; End of the Pacific Whiting Primary Season for the Catcher-processor Sector

AGENCY: National Marine Fisheries Service (NMFS), National Oceanic and Atmospheric Administration (NOAA), Commerce.

ACTION: Fishing restrictions; request for comments.

SUMMARY: NMFS announces the end of the 2006 Pacific Whiting (whiting) Primary Season for the catcher-processor sector at 4 pm local time (l.t.) November 3, 2006, because the allocation for the catcher-processor sector is projected to have been reached by that time. This action is intended to keep the harvest of whiting within the 2006 allocation levels.

DATES: Effective from 4 pm l.t. November 3, 2006, until the start of the 2007 primary season for the catcher-processor sector, unless modified, superseded or rescinded. Comments will be accepted through December 1, 2006.

ADDRESSES: You may submit comments, identified by [I.D. 110706A], by any of the following methods:

1.E-mail:. WhitingCPclosure.nwr@noaa.gov Include [I.D. 110706A] in the subject line of the message.

2. Federal eRulemaking Portal: http://www.regulations.gov. Follow the instructions for submitting comments.

3. Fax: 206-526-6736, Attn: Becky Renko.

4. Mail: D. Robert Lohn, Administrator, Northwest Region, NMFS, 7600 Sand Point Way NE, Seattle, WA 98115-0070, Attn: Becky Renko.

FOR FURTHER INFORMATION CONTACT: Becky Renko at 206-526-6110.

SUPPLEMENTARY INFORMATION: This action is authorized by regulations implementing the Pacific Coast Groundfish Fishery Management Plan (FMP), which governs the groundfish fishery off Washington, Oregon, and California.

The regulations at 50 CFR 660.323(a) establish separate allocations for the catcher/processor, mothership, and shore-based sectors of the whiting fishery. For 2006, the 232,069-mt commercial harvest guideline for whiting is divided with the catcher/processor sector receiving 78,903 mt (34 percent); the mothership sector receiving 55,696 mt (24 percent); and the shore-based sector receiving 97,469 mt (42 percent).

Regulations at 50 CFR 660.373(b) describe the primary season for each sector. For catcher-processors, the primary season is the period when at-sea processing is allowed and the fishery is open for the catcher-processor sector. When each sector's allocation is reached, the primary season for that sector is ended.

To prevent an allocation from being exceeded, regulations at 50 CFR 660.323 (e) allow closure of the commercial whiting fisheries by actual notice to the fishery participants. Actual notice includes e-mail, internet, phone, fax, letter or press release. NMFS provided actual notice by fax to the catcher/processors on November 3, 2006.

NMFS Action

This action announces achievement of the allocation for the catcher-processor sector only. The best available information indicated that the catcher-processor allocation would be reached by 4 pm November 3, 2006, at which time the primary season for the catcher processor sector ends.

For the reasons stated here and in accordance with the regulations at 50 CFR 660.323(b), NMFS herein announces that, effective 4 pm November 3, 2006, further receiving or at-sea processing of whiting by catcher-processors is prohibited. No additional unprocessed whiting may be brought on board after at-sea processing is prohibited, but a catcher-processor may continue to process whiting that was on board before at-sea processing was prohibited.

Classification

This action is authorized by the regulations implementing the FMP. The determination to take this action is based on the most recent data available. The Assistant Administrator for Fisheries, NMFS, finds good cause to waive the requirement to provide prior notice and opportunity for comment on this action pursuant to 5 U.S.C. 553 (3)(b)(B), because providing prior notice and comment opportunity would be impracticable. It would be impracticable because if this closure were delayed in order to provide notice and comment, the fishery would be expected to greatly exceed the catcher-processor sector allocation and the OY for whiting. A delay to provide a cooling off period also would be expected to cause the fishery to exceed its allocation and the whiting OY. Therefore, good cause also exists to waive the 30-day delay in effectiveness requirement of 5 U.S.C. 553 (d)(3). The aggregate data upon which the determination is based are available for public inspection at the Office of the Regional Administrator (see ADDRESSES) during business hours. This action is taken under the authority of 50 CFR 660.323 (b) and is exempt from review under Executive Order 12866.

Authority: 16 U.S.C. 1801 et seq.

Dated: November 09, 2006.
Alan D. Risenhoover,
Director, Office of Sustainable Fisheries, National Marine Fisheries Service.

[FR Doc. E6-19395 Filed 11-15-06; 8:45 am]

BILLING CODE 3510-22-S